DEPARTMENT OF THE INTERIOR

Bureau of Land Management

[WO-350-1430-PB]

Notice of Intent To Prepare a Programmatic Environmental Impact Statement (EIS) To Evaluate Wind Energy Development on Western Public Lands Administered by the Bureau of Land Management

AGENCY: Bureau of Land Management, Interior.

ACTION: Notice of intent.

SUMMARY: In accordance with the Federal Land Policy and Management Act of 1976 (43 U.S.C. 1701), as amended; the National Environmental Policy Act of 1969 (NEPA) (42 U.S.C. 4321), as amended; and the Council on Environmental Quality (CEQ) regulations (40 CFR parts 1500-1508), the Bureau of Land Management (BLM) will prepare a Programmatic Environmental Impact Statement (EIS) to evaluate issues associated with wind energy development on western public lands (excluding Alaska) administered by the BLM.

DATES: The BLM will accept written comments on the scope of the Programmatic EIS postmarked by December 19, 2003, and electronic or faxed comments received by December 19, 2003.

The BLM will hold public scoping meetings to obtain comments for the Programmatic EIS at the locations and dates specified in the SUPPLEMENTARY INFORMATION section of this notice.

ADDRESSES: You may submit comments by the following methods:

Written: BLM Wind Energy Programmatic EIS Scoping, Argonne National Laboratory EAD/900, 9700 S. Cass Avenue, Argonne, IL 60439.

Web site: windeis.anl.gov

Fax: 1-866-542-5903

FOR FURTHER INFORMATION, CONTACT: For general information, including information on how to comment, you may contact Lee Otteni, Bureau of Land Management, Farmington Field Office, 1235 La Plata Highway, Suite A, Farmington, NM 87401, (505) 599-8911 or visit the Wind Energy Development Programmatic EIS Web site at windeis.anl.gov.

SUPPLEMENTARY INFORMATION:

Meetings

The BLM will hold public scoping meetings to obtain comments for the Programmatic EIS at the following locations on the dates specified below:

Sacramento, California: Monday, November 3, 2003

Salt Lake City, Utah: Wednesday, November 5, 2003

Cheyenne, Wyoming: Wednesday, November 12, 2003

Las Vegas, Nevada: Tuesday, November 18, 2003

Boise, Idaho: Thursday, November 20, 2003

BLM will announce all public meetings through the local media, newsletters, and the project Web site (windeis.anl.gov) at least 15 days prior to the meeting.

Comments

The public is encouraged to contact the BLM with information and comments on specific issues it believes BLM should address in the Programmatic EIS. The agency requests information and comments on resources in the western United States that wind energy development may impact. Comments may be in terms of broad areas or restricted to specific areas of concern.

After gathering public comments on what issues BLM should address in the Programmatic EIS, the BLM will identify and provide rationale on those issues we will address in the EIS or those issues beyond the scope of the EIS. In addition to the major issues, BLM will address a number of management questions and concerns in the Programmatic EIS. The public is encouraged to help identify these questions and concerns during the public scoping period.

Scoping comments will be available for public review approximately 45 days following closure of the scoping period. Scoping comments will be posted on the Internet (windeis.anl.gov). You may also view the public scoping comments at the Argonne National Laboratory, 1200 Internationale Parkway, Woodridge, IL 60517, Monday through Friday, 9 a.m. to 11:30 a.m., except holidays. To ensure easy access to the comments at Argonne's offices, we ask that you contact the Document Retrieval Center at (630) 252-4587 prior to your visit. Visitors to Argonne will be escorted at all times and will be issued a temporary badge; specific arrangements must be made for visitors who are not U.S. citizens.

Individual respondents may request confidentiality. If you wish BLM to withhold your name or street address, except for the city or town, from public view or from disclosure under the Freedom of Information Act, you must state this prominently at the beginning of your written comment. We will honor requests to the extent allowed by law. All submissions from organizations or businesses, and from individuals identifying themselves as representatives or officials of organizations or businesses, will be available for public inspection in their entirety.

Background Information

In response to recommendations contained in the President's National Energy Policy that encourages the development of renewable energy resources, the BLM is undertaking efforts to evaluate additional wind energy development on public lands, including the establishment of a national wind energy program and policy. The BLM currently administers numerous wind energy right-of-way authorizations on lands in several western states and has received a large number of new project proposals. The BLM has issued interim wind energy development policy (Instruction Memorandum No. 2003-020) that establishes requirements for wind energy site monitoring and testing activities and full commercial development activities. Under the interim policy industry is required to conduct appropriate levels of environmental review before BLM will issue a right-of-way authorization for either monitoring and testing or full commercial development.

The BLM has determined that the establishment of a national wind energy program and additional related policy would be a major federal action as defined by the NEPA and, thus, the BLM will prepare a Programmatic EIS. This NOI provides public notice of preparation of the Programmatic EIS and announces the opportunity for the public to provide comments relating to the preparation, scope, and content of the Programmatic EIS.

The Programmatic EIS will address the possible amendment of individual land use plans to address future development of wind energy resources on BLM-administered lands. BLM will develop a reasonably foreseeable development scenario to define the magnitude of future wind energy development activities and to identify which land use plans might be amended. Examples of possible amendments to land use plans include the:

(1) Adoption of stipulations (e.g., wildlife management guidelines) applicable to wind energy development projects, and

(2) Designation of lands for competitive leasing of wind energy resources.

BLM will include in the scope of this analysis all BLM-administered lands in the western United States, excluding Alaska. The Programmatic EIS will also address the no-action alternative of not establishing national wind energy policies or amending land use plans. Under the no-action alternative, BLM will continue to allow wind energy development in accordance with the requirements of the interim policy, Instruction Memorandum No. 2003-020. BLM may develop other alternatives as a result of scoping.

The BLM anticipates that the Wind Energy Development Programmatic EIS and Record of Decision will be completed in approximately 24 months and will include public and agency scoping; coordination and consultation with Federal, State, and local agencies and tribal governments; publication of a draft EIS; public review of the draft EIS; and publication of a final EIS and Record of Decision. As currently envisioned, the Programmatic EIS will pay special attention to the resources listed below as we understand they are significant issues associated with wind energy development:

Wildlife and wildlife habitat including avian impacts,

Proximity to military activities,

Visual environment, and

Proximity to wilderness or other special management areas.

The Programmatic EIS will also address the indirect and cumulative impacts associated with wind energy development on a wide range of other resource issues.

The Programmatic EIS will describe wind energy technologies, activities undertaken for site monitoring and evaluation, activities undertaken for full commercial development, and the distribution of wind energy resources on a regional scale. The Programmatic EIS will also describe the impact associated with current technologies, monitoring, and mitigation measures and constraints relevant to wind energy development. It will include a statement of the purpose and need for the proposed action, including the effect of wind energy development on the nation's energy supply, economy, and energy security.

The BLM will work collaboratively with interested parties to identify the management decisions that are best suited to local, regional, and national needs and concerns. Early participation is encouraged and will help determine the future management of the public lands. In addition to the ongoing public participation process, we will provide opportunities for formal participation through comment on the alternatives and upon publication of the draft EIS.

Ray Brady,
Group Manager, Lands and Realty.

[FR Doc. 03-26123 Filed 10-16-03; 8:45 am]

BILLING CODE 4310-84-P